DEPARTMENT OF TRANSPORTATION

Federal Aviation Administration

14 CFR Part 39

[Docket No. FAA-2005-23214; Directorate Identifier 2001-NM-338-AD; Amendment 39-14399; AD 2005-25-06]

RIN 2120-AA64

Airworthiness Directives; Fokker Model F27 Mark 050 Airplanes

AGENCY: Federal Aviation Administration (FAA), Department of Transportation (DOT).

ACTION: Final rule; request for comments.

SUMMARY: The FAA is superseding an existing airworthiness directive (AD), which applies to all Fokker Model F27 Mark 050 series airplanes. The existing AD currently requires using a torque wrench to repetitively tighten the screws for the attachment of the leading edges of the elevators, rudder, and ailerons. This new AD requires the same actions as those of the existing AD, but with reductions in the intervals for repetitive actions. This AD also requires modifying the elevator, rudder, and aileron leading edge attachments with additional locking devices. This AD results from a report of an in-flight vibration caused by a loose leading edge section of the elevator. We are issuing this AD to prevent binding of the flight controls caused by loose attachment screws, which could result in reduced controllability of the airplane.

DATES: This AD becomes effective December 27, 2005.

The Director of the Federal Register approved the incorporation by reference of certain publications listed in the AD as of December 27, 2005.

On January 21, 2000 (65 FR 695, January 6, 2000), the Director of the Federal Register approved the incorporation by reference of certain other publications listed in the regulations.

We must receive comments on this AD by February 10, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9:00 a.m. and 5:00 p.m., Monday through Friday, except Federal holidays.

Contact Fokker Services B.V., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Discussion

On December 28, 1999, we issued AD 99-27-13, amendment 39-11494 (65 FR 695, January 6, 2000), for all Fokker Model F27 Mark 050 series airplanes. That AD requires using a torque wrench to repetitively tighten the screws for the attachment of the leading edges of the elevators, rudder, and ailerons. That AD resulted from an issuance of mandatory continuing airworthiness information by a foreign civil airworthiness authority. We issued that AD to prevent loose attachment screws on the leading edges of the elevators, rudder, and ailerons due to vibration, which could result in interference with adjacent structure and consequent reduced controllability of the airplane.

Actions Since Existing AD Was Issued

Since we issued AD 99-27-13, the Civil Aviation Authority—The Netherlands (CAA-NL), which is the airworthiness authority for the Netherlands, notified us that an additional further unsafe condition may exist on all Fokker Model F27 Mark 050 airplanes. The CAA-NL advises that an operator reported in-flight vibration, which was caused by one loose elevator leading edge section. The airplane was found to have been inspected only seven months before the incident, which was within the original 12-month inspection interval of the existing AD. Further investigation by the manufacturer showed that the self-locking properties of the attachment screws gradually decrease when tightened repeatedly as required by the procedures in the existing AD. This condition, if not corrected, could result in binding of the flight controls caused by loose attachment screws, which could cause reduced controllability of the airplane.

Relevant Service Information

Fokker Services B.V. has issued bulletins in the following table.

Fokker Service Bulletins
Fokker Services Bulletin— | Describes procedures for—
SBF50-55-007, Revision 2, dated June 17, 2002 | Tightening the attachment screws of the elevators' leading edges.
SBF50-55-008, Revision 3, dated June 17, 2002 | Modifying the elevator attachments by installing additional locking devices for the elevators' leading edges.
SBF50-55-009, Revision 2, dated June 17, 2002 | Tightening the attachment screws for the rudder's leading edge.
SBF50-55-010, Revision 2, dated June 17, 2002 | Modifying the rudder attachments by installing additional locking devices for the rudder's leading edge.
SBF50-57-020, Revision 2, dated June 17, 2002 | Tightening the attachment screws for the ailerons' leading edges.
SBF50-57-021, Revision 2, dated June 17, 2002 | Modifying the aileron attachments by installing additional locking devices for the ailerons' leading edges.

Accomplishing the actions specified in the service information is intended to adequately address the unsafe condition. The CAA-NL mandated the service information and issued Dutch airworthiness directive 2000-131/2, dated July 31, 2002, to ensure the continued airworthiness of these airplanes in the Netherlands.

Fokker Service Bulletin SBF50-55-010, Revision 2, refers to Fokker Service Bulletin SBF50-55-011, dated October 29, 2001, as an additional source of service information for modifying the rudder attachments.

Fokker Service Bulletin SBF50-57-021, Revision 2, refers to Fokker Service Bulletin SBF50-57-025, dated October 29, 2001, as an additional source of service information for modifying the aileron attachments.

FAA's Determination and Requirements of this AD

This airplane model is manufactured in the Netherlands and is type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are issuing this AD to prevent binding of the flight controls caused by loose attachment screws, which could result in reduced controllability of the airplane. This AD requires accomplishing the actions specified in the service information described previously.

This AD supersedes AD 99-27-13. This AD continues to require the same actions as the existing AD, but at reduced repetitive intervals. This AD also requires a new modification for the elevators, rudder, and aileron attachments, which terminates the repetitive inspection requirements of this AD. This AD requires accomplishing the actions specified in the service bulletins described previously.

Change To Existing AD

This AD will retain all requirements of AD 99-27-13. Since AD 99-27-13 was issued, the AD format has been revised, and certain paragraphs have been rearranged. As a result, the corresponding paragraph identifiers have changed in this AD, as listed in the following table:

Revised Paragraph Identifiers
Requirement in AD 99-27-13 | Corresponding requirement in this proposed AD
paragraph (a) | paragraph (f).
paragraph (b) | paragraph (g).
paragraph (c) | paragraph (h).

Explanation of Change to Applicability

We have revised the applicability of the proposed AD to identify model designations as published in the most recent type certificate data sheet for the affected models.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Tightening (required by AD 99-27-13) | 12 | $65 | None | $780, per inspection cycle
Modification (new action) | 37 | 65 | $1,025 to 3,372 | $3,430 to 5,777

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-23214; Directorate Identifier 2001-NM-338-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11494 (65 FR 695, January 6, 2000) and by adding the following new airworthiness directive (AD):

2005-25-06 Fokker Services B.V.: Amendment 39-14399. Docket No. FAA-2005-23214; Directorate Identifier 2001-NM-338-AD.

Effective Date

(a) This AD becomes effective December 27, 2005.

Affected ADs

(b) This AD supersedes AD 99-27-13.

Applicability

(c) This AD applies to all Fokker Model F27 Mark 050 airplanes, certificated in any category.

Unsafe Condition

(d) This AD results from a report of an in-flight vibration caused by a loose leading edge section of the elevator. We are issuing this AD to prevent binding of the flight controls caused by loose attachment screws, which could result in reduced controllability of the airplane.

Compliance

(e) You are responsible for having the actions required by this AD performed within the compliance times specified, unless the actions have already been done.

Restatement of the Requirements of AD 99-27-13

Repetitive Corrective Action

(f) Within 30 days after January 21, 2000 (the effective date of AD 99-27-13), use a torque wrench to tighten the screws for the attachment of the leading edges of the elevators in accordance with Fokker Service Bulletin SBF50-55-007, dated June 5, 1998; or Revision 2, dated June 17, 2002. After the effective date of this AD, only Revision 2 may be used. Repeat the tightening thereafter at intervals not to exceed 12 months until the initial tightening required by paragraph (i) of this AD is accomplished.

(g) Within 24 months after January 21, 2000, use a torque wrench to tighten the screws for the attachment of the leading edges of the rudder in accordance with Fokker Service Bulletin SBF50-55-009, Revision 1, dated July 23, 1999; or Revision 2, dated June 17, 2002. After the effective date of this AD, only Revision 2 may be used. Repeat the tightening thereafter at intervals not to exceed 4,000 flight hours, or 24 months, whichever occurs first, until the initial tightening required by paragraph (j) of this AD is accomplished.

(h) Within 6 months after January 21, 2000, use a torque wrench to tighten the screws for the attachment of the leading edges of the ailerons in accordance with Fokker Service Bulletin SBF50-57-020, Revision 1, dated July 23, 1999; or Revision 2, dated June 17, 2002. After the effective date of this AD, only Revision 2 may be used. Repeat the tightening thereafter at intervals not to exceed 12 months until the initial tightening required by paragraph (k) of this AD is accomplished.

New Requirements of This AD

New Repetitive Intervals

(i) Within 6 months after the effective date of this AD or 12 months after accomplishing the action in paragraph (f) of this AD, whichever occurs earlier: Use a torque wrench to tighten the screws for the attachment of the leading edges of the elevators in accordance with Fokker Service Bulletin SBF50-55-007, Revision 2, dated June 17, 2002. Repeat the tightening thereafter at intervals not to exceed 6 months until the modification required by paragraph (l) of this AD is accomplished. Doing the actions in this paragraph terminates the repetitive actions of paragraph (f) of this AD.

(j) Within 12 months after the effective date of this AD or 24 months after accomplishing the action in paragraph (g) of this AD, whichever occurs earlier: Use a torque wrench to tighten the screws for the attachment of the leading edge of the rudder in accordance with Fokker Service Bulletin SBF50-55-009, Revision 2, dated June 17, 2002. Repeat the tightening thereafter at intervals not to exceed 12 months until the modification required by paragraph (l) of this AD is accomplished. Doing the actions in this paragraph terminates the repetitive actions of paragraph (g) of this AD.

(k) Within 6 months after the effective date of this AD or 6 months after accomplishing the action in paragraph (h) of this AD, whichever occurs earlier: Use a torque wrench to tighten the screws for the attachment of the leading edges of the ailerons in accordance with Fokker Service Bulletin SBF50-57-020, Revision 2, dated June 17, 2002. Repeat the tightening thereafter at intervals not to exceed 6 months until the modification required by paragraph (l) of this AD is accomplished. Doing the actions in this paragraph terminates the repetitive actions of paragraph (h) of this AD.

Terminating Modification

(l) At the earlier of the times in paragraph (l)(1) and (l)(2) of this AD, modify the elevator, rudder, and aileron leading edge attachments by installing additional locking devices in accordance with the Accomplishment Instructions of the service bulletins in Table 1 of this AD. Doing the modifications terminates the applicable repetitive actions in paragraphs (f), (g), (h), (i), (j), and (k) of this AD, as specified in Table 1.

(1) Within 24 months after the effective date of this AD.

(2) Within 180 months since the date of issuance of the original Airworthiness Certificate or the date of issuance of the original Export Certificate of Airworthiness.

Table 1.—Fokker Service Bulletins for Terminating Modification
Fokker service bulletin | Location | Terminates the actions required in paragraph—
SBF50-55-008, Revision 3, dated June 17, 2002 | Elevator leading edge | (f) and (i).
SBF50-55-010, Revision 2, dated June 17, 2002 | Rudder leading edge | (g) and (j).
SBF50-57-021, Revision 2, dated June 17, 2002 | Aileron leading edge | (h) and (k).

Note 1: Fokker Service Bulletin SBF50-55-010, Revision 2, refers to Fokker Service Bulletin SBF50-55-011, dated October 29, 2001, as an additional source of service information for modifying the rudder attachments. Fokker Service Bulletin SBF50-57-021, Revision 2, refers to Fokker Service Bulletin SBF50-57-025, dated October 29, 2001, as an additional source of service information for modifying the aileron attachments.

Alternative Methods of Compliance (AMOCs)

(m)(1) The Manager, ANM-116, International Branch, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(n) Dutch airworthiness directive 2000-131/2, dated July 31, 2002, also addresses the subject of this AD.

Material Incorporated by Reference

(o) You must use the service information that is specified in Table 2 of this AD to perform the actions that are required by this AD, unless the AD specifies otherwise.

Table 2.—All Material Incorporated by Reference
Fokker service bulletin | Revision level | Date
SBF50-55-007 | Original | June 5, 1998.
SBF50-55-007 | 2 | June 17, 2002.
SBF50-55-008 | 3 | June 17, 2002.
SBF50-55-009 | 1 | July 23, 1999.
SBF50-55-009 | 2 | June 17, 2002.
SBF50-55-010 | 2 | June 17, 2002.
SBF50-57-020 | 1 | July 23, 1999.
SBF50-57-020 | 2 | June 17, 2002.
SBF50-57-021 | 2 | June 17, 2002.

(1) The incorporation by reference of the service bulletins in Table 3 of this AD is approved by the Director of the Federal Register in accordance with 5 U.S.C. 552(a) and 1 CFR part 51.

Table 3.—New Material Incorporated by Reference
Fokker service bulletin | Revision level | Date
SBF50-55-007 | Revision 2 | June 17, 2002.
SBF50-55-008 | Revision 3 | June 17, 2002.
SBF50-55-009 | Revision 2 | June 17, 2002.
SBF50-55-010 | Revision 2 | June 17, 2002.
SBF50-57-020 | Revision 2 | June 17, 2002.
SBF50-57-021 | Revision 2 | June 17, 2002.

(2) The incorporation by reference of the service bulletins in Table 4 of this AD was approved previously by the Director of the Federal Register as of January 21, 2000, (65 FR 695, January 6, 2000).

Table 4.—Material Previously Incorporated by Reference
Fokker service bulletin | Revision level | Date
SBF50-55-007 | Original | June 5, 1998.
SBF50-55-009 | Revision 1 | July 23, 1999.
SBF50-57-020 | Revision 1 | July 23, 1999.

(3) Contact Fokker Services B.V., P.O. Box 231, 2150 AE Nieuw-Vennep, the Netherlands, for copies of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 30, 2005.
Ali Bahrami,
Manager, Transport Airplane Directorate, Aircraft Certification Service.

[FR Doc. 05-23779 Filed 12-9-05; 8:45 am]

BILLING CODE 4910-13-P